DEPARTMENT OF THE INTERIOR

National Park Service

[N6497; NPS-WASO-NAGPRA-NPS0041039; PPWOCRADN0-PCU00RP14.R50000]

Notice of Inventory Completion: Washtenaw County Medical Examiner's Office, Ann Arbor, MI

AGENCY: National Park Service, Interior.

ACTION: Notice.

SUMMARY: In accordance with the Native American Graves Protection and Repatriation Act (NAGPRA), the Washtenaw County Medical Examiner's Office has completed an inventory of human remains (hereinafter referred to as “Ancestral remains” or “Ancestors”) and associated funerary objects and has determined that there is a cultural affiliation between the Ancestral remains and associated funerary objects and Indian Tribes or Native Hawaiian organizations in this notice.

DATES: Repatriation of the Ancestral remains and associated funerary objects in this notice may occur on or after October 14, 2025.

ADDRESSES: Send written requests for repatriation of the Ancestral remains and associated funerary objects in this notice to Lisa Belanger Neal, Washtenaw County Medical Examiner's Office, 1500 E Medical Center Drive, Ann Arbor, MI 48109, email lineal@med.umich.edu.

SUPPLEMENTARY INFORMATION: This notice is published as part of the National Park Service's administrative responsibilities under NAGPRA. The determinations in this notice are the sole responsibility of the Washtenaw County Medical Examiner's Office, and additional information on the determinations in this notice, including the results of consultation, can be found in its inventory or related records. The National Park Service is not responsible for the determinations in this notice.

Abstract of Information Available

Ancestral remains representing, at least, one individual have been identified. The one associated funerary object is one lot of copper beads. The Ancestral remains and associated funerary object were reportedly excavated from a family farm in Saline, Michigan in the 1950's and were later discovered as part of an estate settlement. The Ancestor and associated funerary objects were transferred to the Washtenaw County Forensic and Autopsy Services in November of 2024, and given the M.E. Case Number: 81-24-0975. A forensic anthropology analysis was completed on November 12, 2024. The Ancestral remains are of an adult 25-35 years female. Dating for the site is unknown.

The Washtenaw County Medical Examiner's Office has no record of, nor do its officials have any knowledge of, any treatment of items with pesticides, preservatives, or other substances that represent a potential hazard to the collection(s) or to persons handling the collection(s).

Cultural Affiliation

Based on the information available and the results of consultation, cultural affiliation is reasonably identified by the geographical location or acquisition history of the Ancestral remains and associated funerary objects described in this notice.

Determinations

The Washtenaw County Medical Examiner's Office has determined that:

• The Ancestral remains described in this notice represent the physical remains of one individuals of Native American ancestry.

• The one object described in this notice are reasonably believed to have been placed intentionally with or near individual Ancestral remains at the time of death or later as part of the death rite or ceremony.

• There is a connection between the Ancestral remains and associated funerary objects described in this notice and the Absentee-Shawnee Tribe of Indians of Oklahoma; Bad River Band of the Lake Superior Tribe of Chippewa Indians of the Bad River Reservation, Wisconsin; Bay Mills Indian Community, Michigan; Chippewa Cree Indians of the Rocky Boy's Reservation, Montana; Citizen Potawatomi Nation, Oklahoma; Delaware Nation, Oklahoma; Delaware Tribe of Indians; Eastern Shawnee Tribe of Oklahoma; Forest County Potawatomi Community, Wisconsin; Grand Traverse Band of Ottawa and Chippewa Indians, Michigan; Hannahville Indian Community, Michigan; Keweenaw Bay Indian Community, Michigan; Kickapoo Traditional Tribe of Texas; Kickapoo Tribe of Indians of the Kickapoo Reservation in Kansas; Kickapoo Tribe of Oklahoma; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Little River Band of Ottawa Indians, Michigan; Little Shell Tribe of Chippewa Indians of Montana; Little Traverse Bay Bands of Odawa Indians, Michigan; Match-e-be-nash-she-wish Band of Pottawatomi Indians of Michigan; Menominee Indian Tribe of Wisconsin; Miami Tribe of Oklahoma; Minnesota Chippewa Tribe, Minnesota (Six component reservations: Bois Forte Band (Nett Lake); Fond du Lac Band; Grand Portage Band; Leech Lake Band; Mille Lacs Band; White Earth Band); Nottawaseppi Huron Band of the Potawatomi, Michigan; Ottawa Tribe of Oklahoma; Peoria Tribe of Indians of Oklahoma; Pokagon Band of Potawatomi Indians, Michigan and Indiana; Prairie Band Potawatomi Nation; Red Cliff Band of Lake Superior Chippewa Indians of Wisconsin; Red Lake Band of Chippewa Indians, Minnesota; Sac & Fox Nation of Missouri in Kansas and Nebraska; Sac & Fox Nation, Oklahoma; Sac & Fox Tribe of the Mississippi in Iowa; Saginaw Chippewa Indian Tribe of Michigan; Sault Ste. Marie Tribe of Chippewa Indians, Michigan; Seneca Nation of Indians; Seneca-Cayuga Nation; Shawnee Tribe; Sokaogon Chippewa Community, Wisconsin; St. Croix Chippewa Indians of Wisconsin; Tonawanda Band of Seneca; Turtle Mountain Band of Chippewa Indians of North Dakota; and the Wyandotte Nation.

Requests for Repatriation

Written requests for repatriation of the Ancestral remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the Ancestral remains and associated funerary objects described in this notice to a requestor may occur on or after October 14, 2025. If competing requests for repatriation are received, the Washtenaw County Medical Examiner's Office must determine the most appropriate requestor prior to repatriation. Requests for joint repatriation of the Ancestral remains and associated funerary objects are considered a single request and not competing requests. The Washtenaw County Medical Examiner's Office is responsible for sending a copy of this notice to the Indian Tribes and Native Hawaiian organizations identified in this notice and any other consulting parties.

Authority: Native American Graves Protection and Repatriation Act, 25 U.S.C. 3003, and the implementing regulations, 43 CFR 10.10.

Dated: August 29, 2025.
Melanie O'Brien,
Manager, National NAGPRA Program.

[FR Doc. 2025-17615 Filed 9-11-25; 8:45 am]

BILLING CODE 4312-52-P